DEPARTMENT OF ENERGY

Federal Energy Regulatory Commission

Combined Notice of Filings #1

Take notice that the Commission received the following electric corporate filings:

Docket Numbers: EC15-173-000.

Applicants: KMC Thermo, LLC, Webb Energy LLC.

Description: Joint Application of KMC Thermo, LLC and Webb Energy LLC for Authorization under Section 203 of the Federal Power Act and Request for Expedited Action.

Filed Date: 7/20/15.

Accession Number: 20150720-5255.

Comments Due: 5 p.m. ET 8/10/15.

Take notice that the Commission received the following electric rate filings:

Docket Numbers: ER14-781-004.

Applicants: Southwest Power Pool, Inc.

Description: Compliance filing: Second Compliance Filing—Generator Interconnection Process Improvement to be effective 3/1/2014.

Filed Date: 7/20/15.

Accession Number: 20150720-5202.

Comments Due: 5 p.m. ET 8/10/15.

Docket Numbers: ER15-746-002.

Applicants: RC Cape May Holdings, LLC.

Description: Tariff Amendment: Second Supplement to Reactive Rate Schedule Change Request to be effective 12/31/9998.

Filed Date: 7/21/15.

Accession Number: 20150721-5100.

Comments Due: 5 p.m. ET 8/11/15.

Docket Numbers: ER15-1344-002.

Applicants: PJM Interconnection, L.L.C.

Description: Tariff Amendment: Response to Deficiency Letter issued in Docket No. ER15-1344 to be effective 6/18/2015.

Filed Date: 7/17/15.

Accession Number: 20150717-5145.

Comments Due: 5 p.m. ET 8/7/15.

Docket Numbers: ER15-1473-002.

Applicants: Midcontinent Independent System Operator, Inc.

Description: Tariff Amendment: 2015-07-20_SA 2771 2nd Amendment to ATC-Cloverland CFA to be effective 6/8/2015.

Filed Date: 7/20/15.

Accession Number: 20150720-5199.

Comments Due: 5 p.m. ET 8/10/15.

Docket Numbers: ER15-1479-002.

Applicants: Midcontinent Independent System Operator, Inc.

Description: Tariff Amendment: 2015-07-20_SA 2773 2nd Amendment to ATC-Adams-Columbia CFA to be effective 6/9/2015.

Filed Date: 7/20/15.

Accession Number: 20150720-5200.

Comments Due: 5 p.m. ET 8/10/15.

Docket Numbers: ER15-1638-001.

Applicants: Dynegy Conesville, LLC.

Description: Tariff Amendment: Response to Defiency Letter to be effective 4/2/2015.

Filed Date: 7/21/15.

Accession Number: 20150721-5010.

Comments Due: 5 p.m. ET 8/11/15.

Docket Numbers: ER15-1640-001.

Applicants: Dynegy Dicks Creek, LLC.

Description: Tariff Amendment: Response to Deficiency Letter to be effective 4/2/2015.

Filed Date: 7/21/15.

Accession Number: 20150721-5011.

Comments Due: 5 p.m. ET 8/11/15.

Docket Numbers: ER15-1641-001.

Applicants: Dynegy Fayette II, LLC.

Description: Tariff Amendment: Response to Deficiency Letter to be effective 4/2/2015.

Filed Date: 7/21/15.

Accession Number: 20150721-5012.

Comments Due: 5 p.m. ET 8/11/15.

Docket Numbers: ER15-1642-001.

Applicants: Dynegy Hanging Rock II, LLC.

Description: Tariff Amendment: Response to Deficiency Letter to be effective 4/2/2015.

Filed Date: 7/21/15.

Accession Number: 20150721-5014.

Comments Due: 5 p.m. ET 8/11/15.

Docket Numbers: ER15-1643-001.

Applicants: Dynegy Killen, LLC.

Description: Tariff Amendment: Response to Deficiency Letter to be effective 4/2/2015.

Filed Date: 7/21/15.

Accession Number: 20150721-5015.

Comments Due: 5 p.m. ET 8/11/15.

Docket Numbers: ER15-1644-001.

Applicants: Dynegy Lee II, LLC.

Description: Tariff Amendment: Response to Deficiency Letter to be effective 4/2/2015.

Filed Date: 7/21/15.

Accession Number: 20150721-5016.

Comments Due: 5 p.m. ET 8/11/15.

Docket Numbers: ER15-1645-001.

Applicants: Dynegy Miami Fort, LLC.

Description: Tariff Amendment: Response to Deficiency Letter to be effective 4/2/2015.

Filed Date: 7/21/15.

Accession Number: 20150721-5017.

Comments Due: 5 p.m. ET 8/11/15.

Docket Numbers: ER15-1647-001.

Applicants: Dynegy Stuart, LLC.

Description: Tariff Amendment: Response to Deficiency Letter to be effective 4/2/2015.

Filed Date: 7/21/15.

Accession Number: 20150721-5018.

Comments Due: 5 p.m. ET 8/11/15.

Docket Numbers: ER15-1648-001.

Applicants: Dynegy Washington II, LLC.

Description: Tariff Amendment: Response to Deficiency Letter to be effective 4/2/2015.

Filed Date: 7/21/15.

Accession Number: 20150721-5019.

Comments Due: 5 p.m. ET 8/11/15.

Docket Numbers: ER15-1649-001.

Applicants: Dynegy Zimmer, LLC.

Description: Tariff Amendment: Response to Deficiency Letter to be effective 4/2/2015.

Filed Date: 7/21/15.

Accession Number: 20150721-5020.

Comments Due: 5 p.m. ET 8/11/15.

Docket Numbers: ER15-2085-000.

Applicants: Dow Pipeline Company.

Description: Supplement to June 30, 2015 Dow Pipeline Company tariff filing.

Filed Date: 7/17/15.

Accession Number: 20150717-5221.

Comments Due: 5 p.m. ET 8/7/15.

Docket Numbers: ER15-2228-000.

Applicants: Louisville Gas and Electric Company.

Description: Section 205(d) Rate Filing: Revisions to Attach N Small Generator Interconnection Procedures and Agreement to be effective 7/24/2015.

Filed Date: 7/21/15.

Accession Number: 20150721-5064.

Comments Due: 5 p.m. ET 8/11/15.

Docket Numbers: ER15-2229-000.

Applicants: ISO New England Inc.

Description: ISO New England Inc. Resource Termination—Hampshire Council of Governments.

Filed Date: 7/21/15.

Accession Number: 20150721-5089.

Comments Due: 5 p.m. ET 8/11/15.

Docket Numbers: ER15-2230-000.

Applicants: Jersey Central Power & Light Company, Pennsylvania Electric Company, Metropolitan Edison Company, PJM Interconnection, L.L.C.

Description: Section 205(d) Rate Filing: Pennsylvania Electric Company et al. Filing of New Service Agreements to be effective 9/21/2015.

Filed Date: 7/21/15.

Accession Number: 20150721-5093.

Comments Due: 5 p.m. ET 8/11/15.

Take notice that the Commission received the following electric reliability filings:

Docket Numbers: RR15-4-001.

Applicants: North American Electric Reliability Corporation.

Description: Compliance Filing and Petition for Approval of Rules of Procedure Revisions of North American Electric Reliability Corporation.

Filed Date: 7/17/15.

Accession Number: 20150717-5232.

Comments Due: 5 p.m. ET 8/17/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 21, 2015.
Nathaniel J. Davis, Sr.,
Deputy Secretary.

[FR Doc. 2015-18497 Filed 7-27-15; 8:45 am]

BILLING CODE 6717-01-P